DEPARTMENT OF HEALTH AND HUMAN SERVICES

Announcement of Requirements and Registration for Beat Down Blood Pressure Challenge

AGENCY: Office of the National Coordinator for Health Information Technology, Department of Health and Human Services (HHS).

ACTION: Federal Register Notice; Correction.

SUMMARY: On March 22, 2012 the Office of the National Coordinator for Health Information Technology, located within the Department of Health and Human Services (HHS) published a notice in the Federal Register (77 FR 17060) announcing requirements and registration for a Beat Down Blood Pressure Video Challenge. This challenge will not be open to the public until Wednesday, March 28th. On 3/28, we encourage you to visit http://BloodPressure.Challenge.gov for a complete set of rules and requirements for this contest.

FOR FURTHER INFORMATION CONTACT: For questions concerning this notice please contact: Erin Poetter, MPH, Office of the National Coordinator for Health Information Technology, HHS, erin.poetter@hhs.gov or 202-205-3310.

Dated: March 21, 2012.
Erin Poetter,
Consumer e-Health Policy Analyst ONC, Department of Health and Human Services.

[FR Doc. 2012-7485 Filed 3-28-12; 8:45 am]

BILLING CODE 4150-45-P